ENVIRONMENTAL PROTECTION AGENCY

[ER-FRL-6643-1]

Environmental Impact Statements; Notice of Availability

Responsible Agency: Office of Federal Activities, General Information (202) 564-7167 or http://www.epa.gov/compliance/nepa/.

Weekly receipt of Environmental Impact Statements

Filed August 11, 2003 Through August 15, 2003

Pursuant to 40 CFR 1506.9.

EIS No. 030376, DRAFT EIS, FHW, AK, Gravina Access Project, Improve Surface Transportation between Revillagigedo Island and Gravina Island, Ketchikan Gateway Borough, Funding by (TEA-21), Endangered Species Act Section 7, NPDES, U.S. Army COE Section 404 Permit, AK, Comment Period Ends: October 6, 2003, Contact: Tim A. Haugh (907) 586-7418. This document is available on the Internet at: http://www.gravina-access.com.

EIS No. 030377, DRAFT EIS, AFS, MT, North Belts Travel Plan and the Dry Range Project, Provide Motorized and Non-motorized Recreation, Helena National Forest, Broadwater, Lewis & Clark and Meagher Counties, MT, Comment Period Ends: October 6, 2003, Contact: Beth Ihle (406) 266-3425. This document is available on the Internet at: http://www.fs.fed.us/r1/helena/projects.

EIS No. 030378, FINAL EIS, FRC, LA, Hackberry Liquified Natural Gas (LNG) Terminal and Natural Gas Pipeline Facilities, Construction and Operation, Cameron, Calcasieu, and Beauregard Parishes, LA, Wait Period Ends: September 22, 2003, Contact: Thomas Russo (800) 208-3372.

EIS No. 030379, FINAL EIS, BLM, WY, Pittsburg and Midway Coal Mining Proposal (WYW148816), Exchange of Private Owned Land P&M for Federally-Owned Coal, Lincoln, Carbon and Sheridan Counties, WY, Wait Period Ends: September 22, 2003, Contact: Nancy Doelger (307) 261-7627. This document is available on the Internet at: http://www.wy.blm.gov.

EIS No. 030380, REVISED DRAFT EIS, COE, CA, Port of Long Beach Pier J South Terminal Expansion Project, Additional Cargo Requirements Associated with Growing Export and Import Volumes, Port Master Plan (PMP) Amendment, COE Section 404, 401 and 10 Permits, City of Long Beach, CA, Comment Period Ends: October 6, 2003, Contact: Dr. Aaron O. Allen (805) 585-2148.

EIS No. 030381, FINAL EIS, NRC, NB, GENERIC EIS—Fort Calhoun Station, Unit 1, Renewal of the Operating Licenses (OLs) for an Additional 20 Years, Supplement 12 (NUREG-1437) Omaha Public Power District, Washington County, NB, Wait Period Ends: September 22, 2003, Contact: Jack Cushing (301) 415-1424.

EIS No. 030382, FINAL EIS, AFS, OR, ID, OR, ID, Hells Canyon National Recreation Area (HCNRA), Comprehensive Management Plan, Implementation, Wallowa-Whitman National Forest, Nez Perce and Payette National Forests, Bake and Wallowa Counties, OR and Nez Perce and Adam Counties, ID, Wait Period Ends: September 22, 2003, Contact: Elaine Kohrman (541) 523-1331. This document is available on the Internet at: http://www.fs.fed.us/hellscanyon/.

EIS No. 030383, FINAL EIS, AFS, OR, Silvies Canyon Watershed Restoration Project, Additional Information concerning Ecosystem Health Improvements in the Watershed, Grant and Harney Counties, OR, Wait Period Ends: September 22, 2003, Contact: Lori Bailey (541) 573-4300.

EIS No. 030384, FINAL EIS, FHW, ND, Liberty Memorial Bridge Replacement Project, Poor and Deteriorating Structural Rehabilitation or Reconstruction, U.S. Coast Guard and U.S. Army COE Section 10 and 404 Permits Issuance, Missouri River, Bismarck and Mandan, ND, Wait Period Ends: September 22, 2003, Contact: Mark Schrader (701) 250-4343.

EIS No. 030385, FINAL EIS, SFW, PROGRAMMATIC EIS-Double crested Cormorant (DCCOs) Management Plan, Reduction of Resource Conflicts, Flexibility Enhancements of Natural Resource Agencies in dealing with DCCO Related Resource Conflicts and to ensure the Conservation of Healthy, Viable DCCO Population, Implementation, The Contiguous United States, Wait Period Ends: September 22, 2003, Contact: Shauna Hanisch (703) 358-1714.

EIS No. 030386, DRAFT EIS, DOE, AZ, Sahuartia-Nogales Transmission Line, Construction and Operation of a 345,00-volt (345 kV) Electric Transmission Line across the United States Border with Mexico, Application for Presidential Permit, Tucson Electric Power (TEP), Nogales, AZ, Comment Period Ends: October 14, 2003, Contact: Dr. Jerry Pell (202) 586-3362. This document is available on the Internet at: http://tis.eh.doe.gov/nepa/documentspub.htm1.

Amended Notices

EIS No. 030309, DRAFT SUPPLEMENT, FAA, CA, Los Angeles International Airport Proposed Master Plan Improvements, New Alternative, Enhanced Safety and Security Plan, Los Angeles County, CA, Comment Period Ends: November 7, 2003, Contact: David Kessler (310) 725-3615. Revision of FR Notice Published on 7/11/2003: CEQ Comment Period Ending 8/25/2003 has been Extended to 11/7/2003.

EIS No. 030266, DRAFT EIS, EPA, KY, VA, TN, WV, Programmatic—Mountaintop Mining and Valley Fills Program Guidance, Policies or Regulations to Minimize Adverse Environmental Effects to Waters of the U.S. and Fish and Wildlife Resources, Implementation, Appalachia, Appalachian Study Area, WV, KY, VA and TN, Comment Period Ends: January 6, 2004, Contact: John Forren (EPA) (215) 814-2705. Revision of FR Notice Published on 6/13/2003: CEQ Comment Period Ending 8/29/2003 has been Extended to 9/6/2004.

Dated: August 18, 2003.
Joseph C. Montgomery,
Director, NEPA Compliance Division, Office of Federal Activities.

[FR Doc. 03-21602 Filed 8-21-03; 8:45 am]

BILLING CODE 6560-50-P